DEPARTMENT OF THE INTERIOR

National Park Service

Sixty-Day Notice of Intention To Request Clearance of Data Collection; Opportunity for Public Comment

AGENCY: Department of the Interior, National Park Service.

ACTION: Notice and request for comments.

SUMMARY: In accordance with the Paperwork Reduction Act of 1995, this notice announces the National Park Service's (NPS') intention to request an extension of a currently approved collection. Specifically five information collections will be carried out pursuant to the Government Performance and Results Act and the NPS Strategic Plan. All of the proposed information collections are surveys of customer satisfaction with certain NPS programs and types of assistance. NPS' National Center for Recreation and Conservation (NCRC) will conduct surveys of the clients of three recreation and conservation assistance programs to assess client satisfaction with the services received and to identify needed program improvements. The NPS goal in conducting these surveys is to use the information to identify areas of strength and weakness in its recreation and conservation assistance programs, to provide an information base for improving those programs, and to provide a required performance measurement (Goal lllb2 of the 2000 National Park Service Strategic Plan) under the Government Performance and Results Act.

NPS' National Center for Cultural Resources (NCCR) proposes to continue to collect information on customer satisfaction with historic preservation technical assistance, training, and educational materials that NPS provides to its partners including the general public. The NPS goal in collecting this information is to provide an information base for maintaining a high level of performance in those programs and to provide a required performance measurement (Goal llla3) of the 2000 National Park Service Strategic Plan that NPS promulgated under the Government Performance and Results Act.

Estimated numbers of:

| Responses | Burden hours
NPS Partnership Programs
GPRA Information Collections | 1,984 | 205.65

Under provisions of the Paperwork Reduction Act of 1995 and 5 CFR part 1320, Reporting and Record Keeping Requirements, the National Park Service is soliciting comments on the need for all five information collections. The NPS also is asking for comments on the practical utility of the information being gathered; the accuracy of the burden hour estimate; ways to enhance the quality, utility, and clarity of the information to be collected; and ways to minimize the burden to respondents, including use of automated information collection techniques or other forms of information technology.

DATES: Public comments will be accepted on or before December 17, 2001.

Send Comments To: Beth Porter—Voice: 202-565-1187, e-mail: Beth_Porter@nps.gov information regarding the surveys related to Recreation and Conservation Assistance customer satisfaction, or John Renaud—Voice: 202-343-1059, e-mail: John_Renaud@nps.gov regarding the collection of data related to historic preservation technical customer satisfaction.

FOR FURTHER INFORMATION CONTACT: Contact Beth Porter—Voice: 202-565-1187, e-mail: Beth_Porter@nps.gov—for further information regarding the surveys related to Recreation and Conservation Assistance customer satisfaction. Contact John Renaud—Voice: 202-343-1059, e-mail: John_Renaud@nps.gov—for further information regarding the collection of data related to historic preservation technical customer satisfaction.

SUPPLEMENTARY INFORMATION: Titles: National Park Service Partnership Programs' GPRA Information Collections; Recreation and Conservation Assistance Customer Satisfaction Survey, Historic Preservation Technical Assistance Customer Satisfaction Questionnaires, and Historic Preservation Technical Assistance Training (etc.) Customer Satisfaction Questionnaires.

Bureau Form Number: None.

OMB Number: 1024-0226.

Expiration Date: To be requested.

Type of request: Extension of a currently approved collection.

Description of need: The Government Performance and Results Act requires Federal agencies to prepare annual performance reports documenting the progress made toward achieving long-term goals. The National Park Service needs the information in the proposed collections to assess the annual progress being made toward meeting Long-term Goals IIIa3, and IIIb2 of the National Park Service Strategic Plan of 2000. The information sought is not collected elsewhere by the Federal Government. The proposed information collections impose no data collection or record keeping burden on the potential respondents. Responding to the proposed collections is voluntary and is based on data that the respondents already collected and/or personal opinion. The National Park Service needs information to help evaluate and improve its recreation and conservation assistance programs and its historic preservation and technical assistance programs.

Automated data collection and statistical sampling: NPS will collect information using two data collection procedures, mail survey and an on-line format. Respondents will be chosen using two procedures: For the NCRC programs, a census of all cooperating partners and organizations will be used. For the NCCR programs, a systematic random sampling procedure will be used. NCCR respondents will be drawn from a list of those persons who received NPS historic technical assistance information publications, attended a workshop, conference, or participated in an on-line course.

Description of respondents: The type of respondents will vary depending upon the information collection.

For the Recreation and Conservation Assistance Customer Satisfaction Surveys, the potential respondents will be all contact persons of all principal cooperating organizations and agencies which have received substantial assistance from any of the three participating programs during the prior Fiscal Year (October 1 through September 30).

For the Historic Preservation Technical Assistance Customer Satisfaction Questionnaires, respondents will be drawn from a list of those persons who received NPS historic technical assistance publication, hard copy or on-line and those who attended a training workshop, conference, or participated in an on-line course during the prior Fiscal year (October 1 through September 30).

Estimated average number of respondents: 1,984. See the chart below for a breakdown by each information collection.

Estimated average number of responses: 1,234. See the chart below for a breakdown by each information collection.

Estimated average burden hours per response: 10 minutes. See the chart below for a breakdown by each information collection.

Frequency of Response: Various. For the Historic Preservation Publications and Technical Assistance Customer Satisfaction Questionnaires, the frequency of response is one time per publication or technical assistance event.

Estimated annual reporting burden: 205.65 hours. See the chart below for a breakdown by each information collection.

Estimated number of:

Avg. time per response in total information collection | Respondents | Responses | Minutes | Hours
Rivers, Trails and Conservation Assistance Program | 200 | 200 | 10 | 33.33
Federal Lands to Parks Program | 80 | 80 | 10 | 13.33
Wild and Scenic Rivers Coordination Program | 4 | 4 | 10 | .66
Subtotal | 284 | 284 | 10 | 47.32
Historic Preservation Technical Assistance Publications Customer Satisfaction | 1,500 | 750 | 10 | 125.00
Historic Preservation Technical Assistance Training (etc.) Customer Satisfaction | 200 | 200 | 10 | 33.33
Subtotal | 1,700 | 950 | NA | 158.33
Grand Total | 1,984 | 1,234 | NA | 205.65

August 3, 2001.
Leonard E. Stowe,
Information Collection Clearance Officer, WASO Administrative Program Center, National Park Service.

[FR Doc. 01-26257 Filed 10-17-01; 8:45 am]

BILLING CODE 4310-70-M